DEPARTMENT OF JUSTICE

Antitrust Division

Notice Pursuant to the National Cooperative Research and Production Act of 1993—Interconnection Technology Research Institute (“ITRI”)

Notice is hereby given that, on April 20, 2000, pursuant to section 6(a) of the National Cooperative Research and Production Act of 1993, 15 U.S.C. 4301 et seq. (“the Act”), Interconnection Technology Research Institute (“ITRI”) has filed written notifications simultaneously with the Attorney General and the Federal Trade Commission disclosing changes in its membership status. The notifications were filed for the purpose of extending the Act's provisions limiting the recovery of antitrust plaintiffs to actual damages under specified circumstances. Specifically, Auburn University, Auburn, AL; Carolina Circuits, Greenville, SC; Cisco Systems, San Jose, CA; ETEC Systems, Inc., Tucson, AZ; Faraday Technology, Clayton, OH; HDP Users Group, Scottsdale, AZ; Intelligent Reasoning Systems, Inc. (ISRI), Austin, TX; X-LAM Technologies, Milpitas, CA; and Viasystems Group, Inc., Richmond, VA have been added as parties to this venture. Ciba Specialty Chemicals, Los Angeles, CA; Everett Charles Technologies , Pomona, CA; Methode Electronics, Willingboro, NJ; MicroModule Systems (MMS), Cupertino, CA; Tessera, Inc., San Jose, CA; and Unicam Software, Inc., Portsmouth, NH are no longer members. Also, AlliedSignal Fed. Manufacturing Technology Center, Kansas City, MO has changed its name to Honeywell Federal Manufacturing Technology Center; and Johnson Matthey Electronics, Inc., Spokane, WA has changed its name to Honeywell Electronic Materials Interconnect Metals.

No other changes have been made in either the membership or planned activity of the group research project. Membership in this group research project remains open, and Interconnection Technology Research Institute (“ITRI”) intends to file additional written notification disclosing all changes in membership.

On December 19, 1994, Interconnection Technology Research Institute (“ITRI”) filed its original notification pursuant to section 6(a) of the Act. The Department of Justice published a notice in the Federal Register pursuant to section 6(b) of the Act on February 1, 1995 (60 FR 6295).

The last notification was filed with the Department on November 12, 1997. A notice was published in the Federal Register pursuant to section 6(b) of the Act on February 5, 1998 (63 FR 5969).

Constance K. Robinson,
Director of Operations, Antitrust Division.

[FR Doc. 01-8579 Filed 4-6-01; 8:45 am]

BILLING CODE 4410-11-M